DEPARTMENT OF HOUSING AND URBAN DEVELOPMENT

[Docket No. 5685-N-03]

60-Day Notice of Proposed Information Collection Section 3 Business Registry Surveys

AGENCY: Office of the Assistant Secretary for Fair Housing and Equal Opportunity, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: October 21, 2013.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Staci Gilliam, Director, Economic Opportunity Division, Office of Fair Housing and Equal Opportunity, Department of Housing and Urban Development, 451 7th Street SW., Room 5236, Washington DC 20410; telephone (202) 402-3468. (This is not a toll-free number.) Hearing or speech-impaired individuals may access this number through TTY by calling the toll-free Federal Relay Service at 1-800-877-8399.

SUPPLEMENTARY INFORMATION:

Section 3 of the Housing and Urban Development Act of 1968, as amended by the Housing and Community Development Act of 1992 (Section 3), contributes to the establishment of stronger, more sustainable communities by requiring recipients of certain HUD financial assistance, to the greatest extent feasible, to provide training and job opportunities generated by such financial assistance to local low- and very low-income persons and to award contracts to eligible businesses that substantially employ those persons. HUD is statutorily charged with the authority and responsibility for implementing and enforcing Section 3. Recipients of HUD funding that is subject to the requirements of Section 3 of the Housing and Urban Development Act of 1968 are required, to the greatest extent feasible, to meet the minimum numerical goals for employment and contracting set forth in the Section 3 regulation at 24 CFR 135.30.

In November 2011, HUD launched the Section 3 Business Registry Pilot program in five metropolitan areas—Detroit, New Orleans, Los Angeles, Miami, and Washington, DC as a resource to help agencies that receive certain HUD funds to meet their Section 3 obligations at 24 CFR part 135 (OMB Approval 2529-0052).

HUD's Section 3 Business Registry is based on similar federal business registries maintained by the Small Business Administration (SBA) and the Veterans Administration. It allows firms that meet one of the three regulatory definitions of a Section 3 Business to self-certify their eligibility with HUD. Once registered, these firms are placed into a searchable online database of Section 3 Businesses that interested parties such as public housing authorities, local government agencies, contractors, and others can use to notify these entities about the availability of certain HUD-funded contracts.

This information collection consists of two surveys that assess the overall effectiveness of the Section 3 Business Registry. The first survey measures the outcomes of the pilot program for Section 3 Businesses that have registered with HUD. The second survey, evaluates feedback from recipients of HUD funding in the five pilot locations on the usefulness of the Section 3 Business Registry. Both surveys will be issued via web-based survey sites such as www.Surveymonkey.com and will produce information that may be useful to HUD for developing policies regarding the Section 3 Business Registry. Responding to these surveys is voluntary.

On April 16, 2013, HUD was granted six-month emergency approval for this information collection by the Office of Management and Budget (OMB approval 2529-0053). At this time, HUD is requesting 3-year approval pursuant to the Paperwork Reduction Act. HUD solicits comment in the following areas outlined in Section A on the information collection described in Section B.

A. Solicitation of Public Comment

This notice is soliciting comments from members of the public and affected parties concerning the collection of information described in Section B on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

B. Overview of Information Collection

Title of Proposal: Section 3 Business Registry Surveys

Office: Fair Housing and Equal Opportunity

OMB Control Number: 2529-0053

Description of the need for the information and proposed use: This information collection contains two surveys that will provide insights into the effectiveness of the Section 3 Business Registry and assess potential outcomes. This information may be useful to HUD for developing policies regarding the Section 3 Business Registry.

This information collection will be limited to businesses that have self-certified their Section 3 eligibility to HUD and recipients of HUD funding (i.e., Public Housing Authorities and local government agencies). The surveys will be sent electronically to all certified businesses in the Section 3 Business Registry database and HUD funding recipients in an effort to produce the greatest amount of responses. Random sampling will not be used to identify potential respondents. Respondents will have a minimum of 60 days to respond to the surveys. Responding to these surveys is voluntary.

Agency form numbers, if applicable: Form HUD 968 and Form HUD 969

Members of affected public: Businesses that are either owned by, or substantially employ, low- or very low-income persons; low-income persons; developers; members of the general public; public housing agencies; and State and local governments.

Estimation of the total numbers of hours needed to prepare the information collection including number of respondents, frequency of response, and hours of response: At this time, there are approximately 800 businesses in the five pilot locations that have self-certified their eligibility with HUD and 150 HUD-funding recipients in the five pilot areas may complete the Section 3 surveys. It is estimated that each survey will take approximately 30 minutes to complete for a total of 475 hours.

Status of the proposed information collection: Active

Authority: The Paperwork Reduction Act of 1995, 44 U.S.C. Chapter 35, as amended.

Dated: August 13, 2013.
Bryan Greene,
Acting Assistant Secretary for Fair Housing and Equal Opportunity.

[FR Doc. 2013-20520 Filed 8-21-13; 8:45 am]

BILLING CODE 4210-67-P